DEPARTMENT OF COMMERCE

National Oceanic and Atmospheric Administration

[I.D. 090806D]

Western Pacific Regional Fishery Management Council; Public Meeting

AGENCY: National Marine Fisheries Service (NMFS), National Oceanic and Atmospheric Administration (NOAA), Commerce.

ACTION: Notice of public meeting.

SUMMARY: The 93rd meeting of the Western Pacific Regional Fishery Management Council's (Council) Scientific and Statistical Committee (SSC) will convene Tuesday, October 3, 2006, through Thursday October 5, 2006. See SUPPLEMENTARY INFORMATION for specific times, dates, and agenda items.

DATES: The SSC meeting will be held between 8:30 a.m. and 5 p.m. on Tuesday, October 3, 2006, through Thursday October 5, 2006.

ADDRESSES: The SSC meeting will be held at the Council Office Conference Room, 1164 Bishop St., Suite 1400, Honolulu, HI; telephone: (808) 522-8220.

FOR FURTHER INFORMATION CONTACT: Kitty M. Simonds, Executive Director; telephone: (808)-522-8220.

SUPPLEMENTARY INFORMATION:

Tuesday, October 3, 2006, 9 a.m.

1. Introductions

2. Approval of Draft Agenda and Assignment of Rapporteurs

3. Approval of the Minutes of the 92nd Meeting

4. Report of the Pacific Science Center Director

5. Ecosystem and Habitat

A. Northwestern Hawaiian Islands Monument (ACTION ITEM)

B. Hawaii Archipelago Ecosystem Research Program

C. Hawaii coral reef fisheries statistics

D. Hawaii coral reef fisheries assessment

E. American Samoa coral reef fish survey

F. Guam Offshore Project

G. Public Comment

H. Discussion and Recommendations

6. Protected Species

A. Update on protected species issues

B. Monk seal fatty acid study report

C. Public Comment

D. Discussion and Recommendations

7. Insular Fisheries

A. Precious Corals

1. Recommendations Black Coral Workshop

2. Plan Team Report

3. Public comment

4. Discussion and recommendations

B. Crustaceans

1. Addition of Heterocarpus to Fishery Ecosystem Plans (FEPs) (ACTION ITEM)

2. Lobster Research

3. Ecosystem Report on Oceanographic Conditions

4. Plan Team Report

5. Public comment

6. Discussion and recommendations

Wednesday, October 4, 2006, 8:30 a.m.

7. Insular Fisheries (Cont'd)

C. Bottomfish and Seamount Groundfish Issues

1. Bottomfish Stock Assessment

2. Update on Main Hawaiian Islands (MHI) bottomfish closed areas working group

3. Status of bottomfish stocks

4. Public comment

5. Discussion and recommendations

8. Pelagics Fisheries

A. Analysis of swordfish longline observer data

B. Minimizing bycatch of loggerhead turtles based on a prediction of the transition zone frontal structure

C. Prediction model for minimizing bycatch of sea turtles

D. American Samoa and Hawaii Longline quarterly reports

E. Swordfish Closure (ACTION ITEM)

F. Pelagic stock assessments

G. Shark management (ACTION ITEM)

H. American Samoa fishery aggregating devices (FADs) (ACTION ITEM)

I. Highly Migratory Species (HMS) quotas and data

J. Bigeye Tuna (BET) quota in the Eastern Pacific Ocean (EPO)

K. NMFS Pacific Island Fisheries Science Center (PIFSC) International Fisheries capabilities

L. International Fisheries

1. Inter-American Tropical Tuna Commission Annual Meeting

2. Western & Central Pacific Fisheries Commission (Science Committee, Compliance Committee, Plenary)

3. Council South Pacific Albacore Workshop

M. Shark bycatch in longline fisheries

N. Public Comment

O. Discussion and Recommendations

Thursday, October 5, 2006, 8:30 a.m.

9. Social Science

Indicators of community health

10. Other Business

A. Stock assessment protocol

B. Magnuson-Stevens Act (MSA) reauthorization

C. 94th SSC meeting

11. Summary of SSC Recommendations to the Council

Special Accommodations

These meetings are physically accessible to people with disabilities. Requests for sign language interpretation or other auxiliary aids should be directed to Kitty M. Simonds, (808) 522-8220 (voice) or (808) 522-8226 (fax), at least 5 days prior to the meeting date.

Authority: 16 U.S.C. 1801 et seq.

Dated: September 14, 2006.
Tracey L. Thompson,
Acting Director, Office of Sustainable Fisheries, National Marine Fisheries Service.

[FR Doc. E6-15526 Filed 9-18-06; 8:45 am]

BILLING CODE 3510-22-S